NATIONAL ARCHIVES AND RECORDS ADMINISTRATION

[NARA-2014-009]

Advisory Committee on the Presidential Library-Foundation Partnerships

AGENCY: National Archives and Records Administration (NARA).

ACTION: Meeting Notice.

SUMMARY: In accordance with the Federal Advisory Committee Act, as amended (5 U.S.C. appendix 2), the National Archives and Records Administration (NARA) announces a meeting of the Advisory Committee on Presidential Library-Foundation Partnerships. The meeting will be held to discuss NARA's budget and its strategic planning process as it relates to Presidential Libraries. The meeting will be open to the public.

DATES: The meeting will be held on Wednesday, January 8, 2014, from 1:00 p.m. to 4:00 p.m.

ADDRESSES: John F. Kennedy Presidential Library and Museum, Columbia Point (Smith Hall), Boston, MA 02125.

FOR FURTHER INFORMATION CONTACT: Denise LeBeck at 301-837-3250 or denise.lebeck@nara.gov.

SUPPLEMENTARY INFORMATION: You may enter from the John F. Kennedy Presidential Library and Museum's main entrance. Photo identification may be required. There is ample and free parking available.

Tentative Agenda

• Opening remarks

• Approval of minutes

• Budget and strategic planning

• Adjournment

Dated: December 5, 2013.
Patrice Little Murray,
Acting Committee Management Officer.

[FR Doc. 2013-29537 Filed 12-10-13; 8:45 am]

BILLING CODE 7515-01-P